ENVIRONMENTAL PROTECTION AGENCY

[ER-FRL-6677-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060141, ERP No. D-AFS-F65064-WI, Boulder Project, Timber Harvesting, Vegetation and Road Management, U.S. Army COE Section 404 Permit, Chequamegon-Nicolet National Forest, Lakewood-Laona Ranger District, Oconto and Langlade Counties, WI.

Summary: EPA expressed environmental concerns about the Draft EIS's discussion of habitat requirements and population trends for key species, notably the northern goshawk and red-shouldered hawk; the Final EIS should present a more complete cumulative impact analysis, covering the geographic range of targeted species, regardless of land ownership. Rating EC2.

EIS No. 20060146, ERP No. D-UAF-K11115-HI, Hickam Air Force Base and Bellows Air Force Station, 15th Airlift Wing, Housing Privatization Phase II, To Transfer the Remaining Housing Units, and Associated Infrastructure to Selected Offeror, O'ahu, HI.

Summary: EPA expressed concerns about a lack of federal commitment to sustainable building, and requested additional information and mitigation measures for air quality, stormwater pollution, and wetlands. Rating EC2.

EIS No. 20060147, ERP No. D-FTA-F40434-MN, Central Corridor Project, Develop a Light Rail Facility or a Busway/Bus Rapid Transit Facility, 11 miles between downtown Minneapolis and downtown St. Paul, Minnesota, Twin Cities Metropolitan Area, MN.

Summary: EPA expressed environmental concerns about traffic impacts, hazardous waste, noise impacts, possible geologic, water, and air issues, and alternative selection criteria. Rating EC2.

EIS No. 20060173, ERP No. D-UAF-K11021-GU, Andersen Air Force Base (AFB), Establish and Operate an Intelligence, Surveillance, Reconnaissance, and Strike (ISR/Strike) Capability, Guam.

Summary: EPA expressed environmental concerns about the disposal of wastewater from the project, and recommended the Air Force work with Guam Waterworks Authority towards upgrading the wastewater treatment plant. Other concerns include noise impacts, and impacts to endangered species. EPA requested additional information regarding cumulative impacts, resource use/impacts from 1,800 migrant laborers, and solid waste disposal and impacts to the Sole Source Aquifer.Rating EC2.

EIS No. 20060187, ERP No. D-AFS-F65065-WI, Long Rail Vegetation and Transportation Management Project, Implementation, Eagle River-Florence Ranger District, Chequamegon-Nicolet National Forest, Florence and Forest Counties, WI

Summary: EPA expressed environmental concern about whether the preferred alternative would support adequate habitat to support the regional species of concern. The Final EIS should include more information about impacts from timber harvest to riparian areas and adequate levels of successional habitat for population viability. Rating EC2.

EIS No. 20060211, ERP No. D-DOE-G03030-00, Strategic Petroleum Reserve Expansion, Site Selection of Five New Sites: Chacahoula and Clovelly, in Lafourche Parish, LA; Burinsburg, Claiborne County, MS; Richton, Perry County, MS; and Stratton Ridge, Brazoria County, TX and Existing Site Bayou Choctaw, Iberville Parish, LA, West Hackberry, Cameron and Calcasieu Parishes, LA; and Big Hill, Jefferson County, TX

Summary: EPA expressed environmental concerns and requested additional information about air quality, water quality, and wetlands. EPA is particularly interested in information pertaining to emissions from backup generators and other activities for each potential site that may require inclusion in the general conformity applicability analysis. Rating EC2.

Final EISs

EIS No. 20060133, ERP No. F-NRC-E06024-MS, Grand Gulf Early Site Permit (ESP) Site, Construction and Operation, Issuance of an Early Site Permit (ESP), NUREG-1817, Claiborne County, MS.

Summary: EPA continues to express concerns about the uncertainty of regulatory limits for offsite releases of radionuclides for the current candidate repository site. EPA recommends that emergency preparedness issues be evaluated regarding potential implications of a release to plant personnel or the public in the event of a major unintended release. EPA also recommends continued coordination with Environmental Justice communities in the area to ensure that their concerns are addressed as the project progresses.

EIS No. 20060179, ERP No. F-AFS-J65456-WY, Moose-Gypsum Project, Proposes to Authorize Vegetation Treatments, Watershed Improvements, and Travel Plan and Recreation Updates, Pinedale Ranger District, Bridger-Teton National Forest, Sublette County, WY

Summary: Quantified estimates of sediment impacts from modeling addressed EPA concerns about erosion. However, EPA continues to have concerns about the adaptive management program because there are no quantitative measures, thresholds, or required actions if physical and biological objectives are not met.

EIS No. 20060189, ERP No. F-NRC-F06027-OH, American Centrifuge Plant, Gas Centrifuge Uranium Enrichment Facility, Construction, Operation, and Decommission, License Issuance, Piketon, OH

Summary: EPA's concerns on the management of various materials, facility decontamination and decommissioning, groundwater contamination, and the relationship of the project to other facilities and contaminated sites at the Portsmouth Reservation have been resolved. However, EPA continues to have concerns about radionuclide air emissions standards compliance, waste processing capacity, construction air emissions, and cumulative impacts to surface water.

EIS No. 20060199, ERP No. F-AFS-F65050-MI, Huron-Manistee National Forests, Land and Resource Management Plan, Implementation, Several Counties, MI

Summary: EPA's concerns about potential impacts to soil and water quality and from invasive species have been addressed, therefore, we do not object to the proposed action.

EIS No. 20060261, ERP No. F-NPS-J61106-UT, Burr Trail Modification Project, Proposed Road Modification within Capitol Reef National Park, Garfield County, UT

Summary: No formal comment letter was sent to the preparing agency.

EIS No. 20060104, ERP No. FR-BLM-A65174-00, PROGRAMMATIC—Proposed Revision to Grazing Regulations for the Public Lands, 42 CFR Part 4100, in the Western Portion of the United States

Summary: No formal comment letter was sent to the preparing agency.

Dated: July 11, 2006.
Ken Mittelholtz,
Environmental Protection Specialist, Office of Federal Activities.

[FR Doc. E6-11129 Filed 7-13-06; 8:45 am]

BILLING CODE 6560-50-P